NUCLEAR REGULATORY COMMISSION

Advisory Committee On Reactor Safeguards

In accordance with the purposes of Sections 29 and 182b of the Atomic Energy Act (42 U.S.C. 2039, 2232b), the Advisory Committee on Reactor Safeguards (ACRS) will hold a meeting on July 8-10, 2009, 11545 Rockville Pike, Rockville, Maryland. The date of this meeting was previously published in the Federal Register on Monday, October 6, 2008, (73 FR 58268-58269).

Wednesday, July 8, 2009, Conference Room T-2B3, Two White Flint North, Rockville, Maryland

8:30 a.m.-8:35 a.m.: Opening Remarks by the ACRS Chairman (Open)—The ACRS Chairman will make opening remarks regarding the conduct of the meeting.

8:35 a.m.-10 a.m.: License Renewal Application and the Final Safety Evaluation Report for the Beaver Valley Power Station (Open)—The Committee will hear presentations by and hold discussions with representatives of the NRC staff and the First Energy Nuclear Operating Company regarding the License Renewal Application for the Beaver Valley Power Station, the associated NRC staff's final Safety Evaluation Report, and related matters.

10:15 a.m.-11:45 a.m.: Draft Final Regulatory Guide 1.215, “Guidance for ITAAC Closure under 10 CFR Part 52” (Open)—The Committee will hear presentations by and hold discussions with representatives of the NRC staff regarding Draft Final Regulatory Guide 1.215 that provides guidance for closure of Inspections, Tests, Analyses, and Acceptance Criteria (ITAAC) and related matters.

12:45 p.m.-2:45 p.m.: Applicability of TRACE Code to Analyze the ESBWR Stability (Open/Closed)—The Committee will hear presentations by and hold discussions with representatives of the NRC staff regarding applicability of the TRACE Code to analyze the stability of the Economic Simplified Boiling Water Reactor (ESBWR) design, and related matters. [Note: A portion of this Session may be closed pursuant to 5 U.S.C. 552b (c)(4), to protect information that is proprietary to General Electric-Hitachi, or its contractors.]

3 p.m.-4 p.m.: Format and Content of the Biennial Research Report to the Commission on the NRC Safety Research Program (Open)—The Committee will discuss the format and content of the ACRS Biennial Report to the Commission on its review and evaluation of the NRC Safety Research Program, and related matters.

4:15 p.m.-7 p.m.: Preparation of ACRS Reports (Open)—The Committee will discuss proposed ACRS reports on matters discussed during this meeting.

Thursday, July 9, 2009, Conference Room T-2B3, Two White Flint North, Rockville, Maryland

8:30 a.m.-8:35 a.m.: Opening Remarks by the ACRS Chairman (Open)—The ACRS Chairman will make opening remarks regarding the conduct of the meeting.

8:35 a.m.-10:30 a.m.: Design Certification (DC)/Combined License (COL) Interim Staff Guidance (ISG)-006 and Nuclear Energy Institute (NEI) Document NEI 08-08, Revision 1 (Open)—The Committee will hear presentations by and hold discussions with representatives of the NRC staff regarding DC/COL-ISG-006, “Interim Staff Guidance on Evaluation and Acceptance Criteria for 10 CFR 20.1406 to Support Design Certification and Combined License Applications,” and NEI 08-08, Revision 1, “Generic FSAR Template Guidance for Life Cycle Minimization of Contamination,” and related matters.

10:45 a.m.-12:15 p.m.: Draft Final Revision 3 to Regulatory Guide 1.100, “Seismic Qualification of Electric and Mechanical Equipment for Nuclear Power Plants” (Open)—The Committee will hear presentations by and hold discussions with representatives of the NRC staff regarding Draft Final Revision 3 to Regulatory Guide 1.100, “Seismic Qualification of Electric and Mechanical Equipment for Nuclear Power Plants,” and related matters.

1:15 p.m.-1:45 p.m.: Quality Assessment of Selected Research Projects (Open)—The Committee will discuss the draft final report on ACRS assessment of the quality of the NRC research projects on: NUREG/CR-6964, “Crack Growth Rates and Metallographic Examinations of Alloy 600 and Alloy 82/182 from Field and Laboratory Materials Testing in PWR Environments,” and Draft NUREG/CR-XXXX, “Diversity Strategies for Nuclear Power Plant Instrumentation and Control Systems.”

1:45 p.m.-2:15 p.m.: Subcommittee Reports (Open)—The Committee will hear reports by and hold discussions with the Chairmen of the ESBWR and the Plant License Renewal Subcommittees regarding: The resolution of containment issues associated with the ESBWR design certification and selected Chapters of the draft SER associated with the North Anna COL application referencing the ESBWR design that were discussed on June 17-18, 2009; and the Prairie Island License Renewal Application and the NRC staff's Safety Evaluation Report with Open Items that were discussed on July 7, 2009, respectively.

2:15 p.m.—3 p.m.: Future ACRS Activities/Report of the Planning and Procedures Subcommittee (Open/Closed)—The Committee will discuss the recommendations of the Planning and Procedures Subcommittee regarding items proposed for consideration by the full Committee during future ACRS meetings, and matters related to the conduct of ACRS business, including anticipated workload and member assignments. [Note: A portion of this session may be closed pursuant to 5 U.S.C.552b(c)(2) and (6) to discuss organizational and personnel matters that relate solely to internal personnel rules and practices of AC and information the release of which would constitute a clearly unwarranted invasion of personal privacy.]

3 p.m.-3:15 p.m.: Reconciliation of ACRS Comments and Recommendations (Open)—The Committee will discuss the responses from the NRC Executive Director for Operations to comments and recommendations included in recent ACRS reports and letters.

3:30 p.m.-7 p.m.: Preparation of ACRS Reports (Open)—The Committee will discuss proposed ACRS reports.

Friday, July 10, 2009, Conference Room T-2B3, Two White Flint North, Rockville, Maryland

8:30 a.m.-6 p.m.: Preparation of ACRS Reports (Open)—The Committee will continue its discussion of proposed ACRS reports.

Procedures for the conduct of and participation in ACRS meetings were published in the Federal Register on October 6, 2008, (73 FR 58268-58269). In accordance with those procedures, oral or written views may be presented by members of the public, including representatives of the nuclear industry. Electronic recordings will be permitted only during the open portions of the meeting. Persons desiring to make oral statements should notify the Cognizant ACRS staff named below five days before the meeting, if possible, so that appropriate arrangements can be made to allow necessary time during the meeting for such statements. Use of still, motion picture, and television cameras during the meeting may be limited to selected portions of the meeting as determined by the Chairman. Information regarding the time to be set aside for this purpose may be obtained by contacting the Cognizant ACRS staff prior to the meeting. In view of the possibility that the schedule for ACRS meetings may be adjusted by the Chairman as necessary to facilitate the conduct of the meeting, persons planning to attend should check with the Cognizant ACRS staff if such rescheduling would result in major inconvenience.

In accordance with Subsection 10(d), Public Law 92-463, I have determined that it may be necessary to close a portion of this meeting noted above to discuss organizational and personnel matters that relate solely to internal personnel rules and practices of ACRS, and information the release of which constitute a clearly unwarranted invasion of personal privacy pursuant to 5 U.S.C. 552b(c)(2) and (6). In addition it may be necessary to close a portion of the meeting to protect information proprietary to General Electric-Hitachi or its contractors pursuant to 5 U.S.C. 552b(c)(4).

Further information regarding topics to be discussed, whether the meeting has been canceled or rescheduled, as well as the Chairman's ruling on requests for the opportunity to present oral statements and the time allotted therefor can be obtained by contacting Girija Shukla, Cognizant ACRS staff (301-415-6855), between 7:15 a.m. and 5 p.m. (ET). ACRS meeting agenda, meeting transcripts, and letter reports are available through the NRC Public Document Room at pdr.resource@nrc.gov, or by calling the PDR at 1-800-397-4209, or from the Publicly Available Records System (PARS) component of NRC's document system (ADAMS) which is accessible from the NRC Web site at http://www.nrc.gov/reading-rm/adams.html or http://www.nrc.gov/reading-rm/doc-collections/ACRS/.

Video teleconferencing service is available for observing open sessions of ACRS meetings. Those wishing to use this service for observing ACRS meetings should contact Mr. Theron Brown, ACRS Audio Visual Technician (301-415-8066), between 7:30 a.m. and 3:45 p.m., (ET), at least 10 days before the meeting to ensure the availability of this service. Individuals or organizations requesting this service will be responsible for telephone line charges and for providing the equipment and facilities that they use to establish the video teleconferencing link. The availability of video teleconferencing services is not guaranteed.

Dated: June 11, 2009
Andrew L. Bates,
Advisory Committee Management Officer.

[FR Doc. E9-14235 Filed 6-16-09; 8:45 am]

BILLING CODE 7590-01-P